DEPARTMENT OF THE INTERIOR

Bureau of Land Management

16X.LLAZ956000.L14400000.BJ0000.LXSSA225000.241A

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The plat representing the dependent resurvey and subdivision of section 4, Township 22 North, Range 6 East, accepted September 28, 2015, and officially filed September 30, 2015, for Group 1123, Arizona.

This plat was prepared at the request of the United States Forest Service.

The plat, in seven sheets, representing the dependent resurvey, subdivision of certain sections, metes-and-bounds surveys in section 27 and 35, and recovery of certain corners, Township 23 North, Range 6 East, accepted September 28, 2015, and officially filed September 30, 2015, for Group 1123, Arizona.

This plat was prepared at the request of the United States Forest Service.

The plat representing the dependent resurvey and subdivision of section 18, Township 23 North, Range 7 East, accepted September 28, 2015, and officially filed September 30, 2015, for Group 1123, Arizona.

This plat was prepared at the request of the United States Forest Service.

The plat representing the dependent resurvey, corrective resurvey, independent resurvey and subdivision of certain sections, Township 21 North, Range 30 East, accepted September 29, 2015, and officially filed September 30, 2015, for Group 957, Arizona.

This plat was prepared at the request of the Bureau of Indian Affairs.

The plat representing the dependent resurvey of a portion of the exterior boundary of the Gila River Indian Reservation in section 5, Township 5 South, Range 8 East, accepted April 7, 2015, and officially filed April 8, 2015, for Group 1135, Arizona.

This plat was prepared at the request of the Bureau of Indian Affairs.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Gerald T. Davis,
Chief Cadastral Surveyor of Arizona.

[FR Doc. 2015-27125 Filed 10-23-15; 8:45 am]

BILLING CODE 4310-32-P